Title 3—

The President

Executive Order 13291 of March 21, 2003

Further Adjustment of Certain Rates of Pay

By the authority vested in me as President by the Constitution and the laws of the United States of America, it is hereby ordered that Executive Order 13282 of December 31, 2002, is amended as follows:

Section 1. Section 3(c) of Executive Order 13282 is amended to read as follows:

“(c) Justices and judges (28 U.S.C. 5, 44(d), 135, 252, and 461(a), section 140 of Public Law 97-92, and Public Law 108-6) at Schedule 7.”.

Sec. 2. Section 5(a) of Executive Order 13282 is amended to read as follows:

“(a) Pursuant to section 5304 of title 5, United States Code, and in accordance with section 637 of Division J of Public Law 108-7, locality-based comparability payments shall be paid in accordance with Schedule 9 attached hereto and made a part hereof.”.

Sec. 3. Executive Order 13282 is amended by striking Schedules 7 and 9 attached thereto and inserting Schedules 7 and 9 attached hereto and made a part hereof.

Sec. 4. The amendments made by this order are effective on the first day of the first applicable pay period beginning on or after January 1, 2003.

B

THE WHITE HOUSE,

March 21, 2003.

Billing code 3195-01-P

[FR Doc. 03-7313

Filed 3-24-03; 8:58 am]

Billing code 6325-01-C